DEPARTMENT OF HEALTH AND HUMAN SERVICES

National Institutes of Health

Government-Owned Inventions; Availability for Licensing

AGENCY: National Institutes of Health, HHS.

ACTION: Notice.

SUMMARY: The inventions listed below are owned by an agency of the U.S. Government and are available for licensing in the U.S.

FOR FURTHER INFORMATION CONTACT: Licensing information and copies of the patent applications listed below may be obtained by emailing the indicated licensing contact at the National Heart, Lung, and Blood, Office of Technology Transfer and Development Office of Technology Transfer, 31 Center Drive Room 4A29, MSC2479, Bethesda, MD 20892-2479; telephone: 301-402-5579. A signed Confidential Disclosure Agreement may be required to receive copies of the patent applications.

SUPPLEMENTARY INFORMATION: This notice is in accordance with 35 U.S.C. 209 and 37 CFR part 404 to achieve commercialization of results of federally-funded research and development. Foreign patent applications are filed on selected inventions to extend market coverage for companies and may also be available for licensing. A description of the technology follows.

Inner Curvature Charge Concentration Device For Tissue Laceration

Description of Technology: Left ventricular outflow tract obstruction is a life-threatening complication of transcatheter mitral valve replacement caused by septal displacement of the anterior mitral leaflet (AML). The AML is a mobile structure that physically separates inflow and outflow zones of the left ventricle. Preserving the AML during surgical mitral valve replacement can cause left ventricular outflow tract obstruction, either when the prosthesis struts protrude into the left ventricular outflow tract or when along redundant anterior leaflet prolapses into the left ventrical outflow tract. The invention relates to devices having monopolar or bipolar tissue lacerators for efficiently and safely cutting AMLs percutaneously by vaporizing target tissue with electrical energy. Exemplary devices include a wire partially covered by electrical insulation, where the wire is kinked and where the wire is exposed through the insulation at one or more exposed regions along or near the inner curvature of the kink. The wire is configured to conduct electrical energy through the exposed region(s) and through a tissue target positioned adjacent the inner curvature to lacerate the tissue target via the electrical energy. The tissue target can be a native or prosthetic heart valve leaflet in a patient's heart. An optional feature of the device also includes an irrigation catheter to displace blood from the electrode, concentrating current at the tissue and reducing char and coagulum formation.

Potential Commercial Applications:

• Prevention of iatrogenic left ventricular outflow tract obstruction following transcatheter mitral valve replacement

• Bioprosthetic aortic scallop intentional laceration

Development Stage:

• In vivo data available

Inventors: Robert Lederman, Jaffar Khan, Toby Rogers (all of NHLBI).

Intellectual Property: HHS Reference No. E-064-2018/0-US-01; U.S. Provisional Patent Application 62/633,791 filed February 22, 2018.

Licensing Contact: Michael Shmilovich, Esq, CLP; 301-435-5019; shmilovm@nih.gov.

Collaborative Research Opportunity: The National Institute of Environmental Health Sciences seeks statements of capability or interest from parties interested in collaborative research to further develop and evaluate, please contact Peg Koelble, Technology Development Specialist, Office of Technology Transfer, National Heart, Lung, and Blood Institute, Phone: 301.594.4095; koelblep@nhlbi.nih.gov.

Dated: April 26, 2018.
Michael A. Shmilovich,
Senior Licensing and Patenting Manager, National Heart, Lung, and Blood Institute, Office of Technology Transfer and Development.

[FR Doc. 2018-09656 Filed 5-4-18; 8:45 am]

BILLING CODE 4140-01-P